DEPARTMENT OF LABOR

Employment and Training Administration

Notice of Funding Opportunity and Solicitation for Grant Applications (SGA) for Cooperative Agreements Under the Disability Employment Initiative (DEI)

AGENCY: Employment and Training Administration, Labor.

ACTION: Notice of Solicitation for Grant Applications (SGA).

Funding Opportunity Number: SGA-DFA-PY-10-14.

SUMMARY: The Employment and Training Administration (ETA), in coordination with Department of Labor's (DOL's) Office of Disability Employment Policy (ODEP) announces the availability of approximately $20 million for a second round of cooperative agreements to state agencies that administer the Workforce Investment Act (WIA). These funds provide an opportunity for states to develop and implement a plan for improving effective and meaningful participation of persons with disabilities in the workforce.

DOL is using this funding to implement the Disability Employment Initiative (DEI), through which the Department intends to make six to ten grant awards designed to:

(1) Improve educational, training, and employment opportunities and outcomes of youth and adults with disabilities who are unemployed, underemployed, and/or receiving Social Security disability benefits; and

(2) Help these individuals with disabilities find a path into the middle class through exemplary and model service delivery by the public workforce system.

DOL will award DEI grants for a three-year period of performance. The complete SGA and any subsequent SGA amendments are described in further detail on ETA's Web site at http://www.doleta.gov/grants or on http://www.grants.gov. The Web sites provide application information, eligibility requirements, review and selection procedures and other program requirements governing this solicitation.

DATES: The closing date for receipt of applications is July 15, 2011.

FOR FURTHER INFORMATION CONTACT: Serena Boyd, 200 Constitution Avenue, NW., Room N-4716, Washington, DC 20210; telephone: 202-693-3338.

Signed at Washington, DC, this 24th day of May, 2011.
B. Jai Johnson,
Grant Officer, Employment and Training Administration.

[FR Doc. 2011-13327 Filed 5-27-11; 8:45 am]

BILLING CODE 4510-FN-P